DEPARTMENT OF JUSTICE

Notice of Lodging of Proposed Consent Decree Under the Clean Air Act and the Comprehensive Environmental Response, Compensation, and Liability Act

On January 17, 2017, the Department of Justice lodged a proposed consent decree with the United States District Court for the Northern District of Ohio in the lawsuit entitled United States v. S.H. Bell Company, Civil Action No. 4:17-cv-131.

The United States filed this lawsuit under the Clean Air Act and the Comprehensive Environmental Response, Compensation, and Liability Act (“CERCLA,” also known as the Superfund statute). The United States' complaint names S.H. Bell Company as defendant. The complaint seeks injunctive relief under the Clean Air Act and CERCLA to address manganese emissions from S.H. Bell's plant that spans across the Ohio-Pennsylvania border in East Liverpool, Ohio and Ohioville, Pennsylvania. The consent decree requires several measures to provide both immediate and long-term reductions in fugitive manganese emissions. These safeguards include (i) fenceline monitoring with EPA-approved monitors and required steps to investigate and, if needed, take corrective action if emissions exceed specified trigger levels; (ii) a tracking system for manganese materials and video recordings of certain facility operations to help the company and regulators determine the source of any manganese emissions detected in the future; and (iii) implementation of identified fugitive dust control measures.

The publication of this notice opens a period for public comment on the consent decree. Comments should be addressed to the Assistant Attorney General, Environment and Natural Resources Division, and should refer to United States v. S.H. Bell Company, D.J. Ref. No. 90-5-2-1-11688/1. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $11.75 (25 cents per page reproduction cost) payable to the United States Treasury.

Randall M. Stone,
Acting Assistant Section Chief, Environmental Enforcement Section, Environment and Natural Resources Division.

[FR Doc. 2017-01647 Filed 1-24-17; 8:45 am]

BILLING CODE 4410-15-P